COMMITTEE FOR THE IMPLEMENTATION OF TEXTILE AGREEMENTS

Determination Under the African Growth and Opportunity Act

December 23, 2004.

AGENCY: Committee for the Implementation of Textile Agreements (CITA).

ACTION: Directive to the Commissioner of Customs.

SUMMARY: The Committee for the Implementation of Textile Agreements (CITA) has determined that certain textile and apparel goods from Mozambique shall be treated as “handloomed, handmade, or folklore articles” and qualify for preferential treatment under the African Growth and Opportunity Act. Imports of eligible products from Mozambique with an appropriate AGOA visa will qualify for duty-free treatment.

EFFECTIVE DATE: January 10, 2005

FOR FURTHER INFORMATION CONTACT: Anna Flaaten, International Trade Specialist, Office of Textiles and Apparel, U.S. Department of Commerce, (202) 482-3400.

SUPPLEMENTARY INFORMATION:

Authority: The African Growth and Opportunity Act (Title I of the Trade and Development Act of 2000, Pub. L. No. 106-200) (AGOA) provides preferential tariff treatment for imports of certain textile and apparel products of beneficiary sub-Saharan African countries, including handloomed, handmade, or folklore articles of a beneficiary country that are certified as such by the competent authority in the beneficiary country. In Executive Order 13191, the President authorized CITA to consult with beneficiary sub-Saharan African countries and to determine which, if any, particular textile and apparel goods shall be treated as being handloomed, handmade, or folklore articles. (66 FR 7272).

In a letter to the Commissioner of Customs dated January 18, 2001, the United States Trade Representative directed Customs to require that importers provide an appropriate export visa from a beneficiary sub-Saharan African country to obtain preferential treatment under section 112(a) of the AGOA (66 FR 7837). The first digit of the visa number corresponds to one of nine groupings of textile and apparel products that are eligible for preferential tariff treatment. Grouping “9” is reserved for handmade, handloomed, or folklore articles.

CITA has consulted with Mozambican authorities, and has determined that handloomed fabrics, handloomed articles (e.g., handloomed rugs, scarves, place mats, and tablecloths), handmade articles made from handloomed fabrics, and the folklore articles described in the annex to this notice, if produced in and exported from Mozambique, are eligible for preferential tariff treatment under section 112(a) of the AGOA. In the letter published below, CITA directs the Commissioner of Customs and Border Protection to allow duty-free entry of such products under U.S. Harmonized Tariff Schedule subheading 9819.11.27 if accompanied by an appropriate AGOA visa in grouping “9”.

D. Michael Hutchinson,
Acting Chairman, Committee for the Implementation of Textile Agreements.

Committee for the Implementation of Textile Agreements

December 23, 2004.

Commissioner,

Bureau of Customs and Border Protection, Washington, DC 20229.

Dear Commissioner: The Committee for the Implementation of Textiles Agreements (CITA), pursuant to Sections 112(a) of the African Growth and Opportunity Act (Title I of Pub. L. No. 106-200) (AGOA) and Executive Order 13191 of January 17, 2001, has determined, effective on January 10, 2005, that the following articles shall be treated as “handloomed, handmade, and folklore articles” under the AGOA: (a) handloomed fabrics, handloomed articles (e.g., handloomed rugs, scarves, placemats, and tablecloths), and handmade articles made from handloomed fabrics, if made in Mozambique from fabric handloomed in Mozambique; and (b) the folklore articles described in the attachment to this letter, if made in Mozambique. Such articles are eligible for duty-free treatment only if entered under subheading 9819.11.27 and accompanied by a properly completed visa for product grouping “9”, in accordance with the provisions of the Visa Arrangement between the Government of Mozambique and the Government of the United States Concerning Textile and Apparel Articles Claiming Preferential Tariff Treatment under Section 112 of the Trade and Development Act of 2000. After additional consultations with Mozambican authorities, CITA may determine that other textile and apparel goods shall be treated as folklore articles.

Sincerely,

D. Michael Hutchinson,

Acting Chairman, Committee for the Implementation of Textile Agreements.

ANNEX

CITA has determined that the following textile and apparel goods shall be treated as folklore articles for purposes of the AGOA if made in Mozambique. Articles must be ornamented in characteristic Mozambican or regional folk style. An article may not include modern features such as zippers, elastic, elasticized fabrics, or hook-and-pile fasteners (such as velcroc or similar holding fabric). An article may not incorporate patterns that are not traditional or historical to Mozambique, such as airplanes, buses, cowboys, or cartoon characters and may not incorporate designs referencing holidays or festivals not common to traditional Mozambican culture, such as Halloween and Thanksgiving.

Eligible folklore articles:

(a) Traditional Shirt

The article is a loose-fitting, straight-seamed shirt made of tie-dyed fabric. Sleeves are half to three-quarter in length. The neckline is rounded, slit, or v-shaped without collar. There is intricate embroidery around the neckline, outer trim of sleeves, and lower hem. May or may not have square-shaped breast and lower front pockets, also generally trimmed with intricate embroidery.

(b) Women's Traditional Tunic/ Mozambican Pedaços

A loose flowing, straight-seamed, non-tailored, full-length outer tunic, made of tie-dyed or other colorful fabric. The neckline is rounded, slit, or v-shaped, without collar. There is intricate embroidery around the neckline and outer trim of sleeves. The neckline can be round or have a slit down the center front. Accompanying head wrap is a rectangular piece of matching fabric.

[FR Doc. 04-28715 Filed 12-30-04; 8:45 am]

BILLING CODE 3510-DS-S